SMALL BUSINESS ADMINISTRATION

[Disaster Declaration # 16257 and # 16258; North Dakota Disaster Number ND-00074]

Presidential Declaration Amendment of a Major Disaster for Public Assistance Only for the State of North Dakota

AGENCY: U.S. Small Business Administration.

ACTION: Amendment 1.

SUMMARY: This is an amendment of the Presidential declaration of a major disaster for Public Assistance Only for the State of North Dakota (FEMA-4475-DR), dated 01/21/2020.

Incident: Flooding.

Incident Period: 10/09/2019 through 10/26/2019.

DATES: Issued on 04/24/2020.

Physical Loan Application Deadline Date: 03/23/2020.

Economic Injury (EIDL) Loan Application Deadline Date: 10/21/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of North Dakota, dated 01/21/2020, is hereby amended to include the following areas as adversely affected by the disaster.

Primary Counties: Dickey, Emmons.

All other information in the original declaration remains unchanged.

(Catalog of Federal Domestic Assistance Number 59008)

Cynthia Pitts,
Acting Associate Administrator for Disaster Assistance.

[FR Doc. 2020-09340 Filed 4-30-20; 8:45 am]

BILLING CODE 8026-03-P